OFFICE OF MANAGEMENT AND BUDGET

Office of Federal Procurement Policy; Acquisition of Green Products and Services

AGENCY: Office of Management and Budget.

ACTION: Notice; correction.

SUMMARY: The Office of Management and Budget, Office of Federal Procurement Policy (OFPP) published a document in the Federal Register of December 28, 2007, concerning a proposed OFPP policy letter on the acquisition of green products and services. The document erroneously contained an effective date.

FOR FURTHER INFORMATION CONTACT: Jim Daumit, 202-395-1052.

Correction

In the Federal Register of December 28, 2007, in FR Doc. E7-25211, on page 73909, in the first column, remove item 13, “Effective date”, in its entirety.

The publication is not effective as of December 28, 2007. The proposed OFPP policy letter published on December 28, 2007 is for public comment purposes only.

Dated: January 8, 2008.
Paul A. Denett,
Administrator.

[FR Doc. E8-521 Filed 1-14-08; 8:45 am]

BILLING CODE 3110-01-P